NATIONAL SCIENCE FOUNDATION

Membership of National Science Foundation's Senior Executive Service Performance Review Board

AGENCY: National Science Foundation.

ACTION: Notice.

SUMMARY: The National Science Foundation is announcing the members of the Senior Executive Service Performance Review Board.

ADDRESSES: Comments should be addressed to Branch Chief, Executive Services, Division of Human Resource Management, National Science Foundation, Room W15219, 2415 Eisenhower Avenue, Alexandria, VA 22314.

FOR FURTHER INFORMATION CONTACT: Ms. Jennifer Munz at the above address or (703) 292-2478.

SUPPLEMENTARY INFORMATION: The membership of the National Science Foundation's Senior Executive Service Performance Review Board is as follows:

Karen Marrongelle, Chief Operating Officer, Chairperson

Wonzie Gardner, Chief Human Capital Officer and Office Head, Office of Information and Resource Management

Janis Coughlin-Piester, Deputy Office Head, Office of Budget, Finance and Award Management

Joanne Tornow, Assistant Director, Directorate for Biological Sciences

Erwin Gianchandani, Senior Advisor, Office of the Director

Michael Wetklow, Deputy Chief Financial Officer and Division Director, Budget Division

Linda Sapochak, Division Director, Division of Materials Research, Directorate for Mathematical & Physical Sciences

William Malyszka, Division Director, Division of Human Resource Management and PRB Executive Secretary

This announcement of the membership of the National Science Foundation's Senior Executive Service Performance Review Board is made in compliance with 5 U.S.C. 4314(c)(4).

Dated: August 2, 2021.
Suzanne H. Plimpton,
Reports Clearance Officer, National Science Foundation.

[FR Doc. 2021-16756 Filed 8-4-21; 8:45 am]

BILLING CODE 7555-01-P